DEPARTMENT OF HEALTH AND HUMAN SERVICES

Centers for Disease Control and Prevention

Breast and Cervical Cancer Early Detection and Control Advisory Committee

In accordance with section 10(a)(2) of the Federal Advisory Committee Act (Pub. L. 92-463), the Centers for Disease Control and Prevention (CDC) announces the following meeting of the aforementioned committee:

Name: Breast and Cervical Cancer Early Detection and Control Advisory Committee (BCCEDCAC).

Times and Dates:

8:30 a.m.-5 p.m., June 16, 2009;

8:30 a.m.-3 p.m., June 17, 2009.

Place: Centers for Disease Control and Prevention, Tom Harkin Global Communications Center, 1600 Clifton Road Building 19, Atlanta, Georgia 30333.

Status: Open to the public, limited only by the space available.

Purpose: The committee is charged with advising the Secretary, Department of Health and Human Services, and the Director, CDC, regarding the early detection and control of breast and cervical cancer. The committee makes recommendations regarding national program goals and objectives; implementation strategies; and program priorities including surveillance, epidemiologic investigations, education and training, information dissemination, professional interactions and collaborations, and policy.

Matters To Be Discussed: The agenda will include discussion and review of the National Cancer Prevention and Control Program highlights; Economic crisis in states and impact on the National Breast and Cervical Cancer Early Detection Program (NBCCEDP) and cancer treatment; HPV DNA testing; Integration of Colorectal Cancer screening; Performance based budgeting; Using data to drive program planning; Mammography Use 2000-2006 study results; Non-screening components of NBCCEDP Public Education and Outreach, Coalitions and Partnerships, Quality Assurance and Quality Improvement.

Agenda items are subject to change as priorities dictate.

Contact Person for More Information: Chastity Walker, Executive Secretary, BCCEDCAC, Division of Cancer Prevention and Control, National Center for Chronic Disease Prevention and Health Promotion, CDC, 4770 Buford Highway, Mailstop K-57, Chamblee, Georgia 30316, Telephone: 770-488-3013.

The Director, Management Analysis and Services Office, has been delegated the authority to sign Federal Register notices pertaining to announcements of meetings and other committee management activities for both CDC and the Agency for Toxic Substances and Disease Registry.

Dated: May 21, 2009.
Andre Tyler,
Acting Director, Management Analysis and Services Office, Centers for Disease Control and Prevention.

[FR Doc. E9-12391 Filed 5-27-09; 8:45 am]

BILLING CODE 4163-18-P